ENVIRONMENTAL PROTECTION AGENCY

40 CFR Part 52

[EPA-R09-OAR-2019-0528; FRL-10003-96-Region 9]

Air Plan Approval; California; Northern Sierra Air Quality Management District; Reasonably Available Control Technology

AGENCY: Environmental Protection Agency (EPA).

ACTION: Final rule.

SUMMARY: The Environmental Protection Agency (EPA) is taking final action to approve a revision to the Northern Sierra Air Quality Management District (NSAQMD or “District”) portion of the California State Implementation Plan (SIP) under the Clean Air Act (CAA or “the Act”). This revision concerns the District's demonstration regarding reasonably available control technology (RACT) requirements for the 2008 8-hour ozone national ambient air quality standard (NAAQS or “standards”) in the Western Nevada County ozone nonattainment area, which is under the jurisdiction of the NSAQMD.

DATES: This rule will be effective on February 14, 2020.

ADDRESSES: The EPA has established a docket for this action under Docket ID No. EPA-R09-OAR-2019-0528. All documents in the docket are listed on the https://www.regulations.gov website. Although listed in the index, some information is not publicly available, e.g., Confidential Business Information (CBI) or other information the disclosure of which is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Stanley Tong, EPA Region IX, 75 Hawthorne St., San Francisco, CA 94105. By phone: (415) 947-4122 or by email at tong.stanley@epa.gov.

SUPPLEMENTARY INFORMATION: Throughout this document, “we,” “us” and “our” refer to the EPA.

Table of Contents

I. Proposed Action

II. Public Comments and EPA Responses

III. EPA Action

IV. Statutory and Executive Order Reviews

I. Proposed Action

On November 4, 2019 (84 FR 59331), the EPA proposed to approve NSAQMD's “Reasonably Available Control Technology (RACT) State Implementation Plan (SIP) Revision for Western Nevada County 8-Hour Ozone Nonattainment Area” (“2018 RACT SIP”), adopted on March 26, 2018, and submitted to the EPA by the California Air Resources Board (CARB) on June 7, 2018, for approval as a revision to the California SIP.

We proposed to approve the 2018 RACT SIP because we determined that it complies with the relevant CAA requirements. Our proposed action contains more information on the document and our evaluation.

II. Public Comments and EPA Responses

The EPA's proposed action provided a 30-day public comment period. During this period, we received no comments.

III. EPA Action

No comments were submitted. Therefore, as authorized in section 110(k)(3) of the Act, the EPA is fully approving the 2018 RACT SIP into the California SIP.

IV. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by March 16, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen oxides, Ozone, Reporting and recordkeeping requirements, Volatile organic compounds.

Dated: December 16, 2019.
Deborah Jordan,
Acting Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraph (c)(529) to read as follows:

§ 52.220 Identification of plan—in part.

* * * * *

(c) * * *

(529) The following plan was submitted on June 7, 2018 by the Governor's designee.

(i) [Reserved]

(ii) Additional materials. (A) Northern Sierra Air Quality Management District.

(1) Reasonably Available Control Technology (RACT) State Implementation Plan (SIP) Revision for Western Nevada County 8-Hour Ozone Nonattainment Area, adopted on March 26, 2018.

(2) [Reserved]

(B) [Reserved]

3. Section 52.222 is amended by adding paragraph (a)(9)(iv) to read as follows:

§ 52.222 Negative declarations.

(a) * * *

(9) * * *

(iv) The following negative declarations for the 2008 ozone NAAQS were adopted by the Northern Sierra Air Quality Management District on March 26, 2018, and submitted to the EPA on June 7, 2018.

Table 1 to Paragraph (a)(9)(iv)—Negative Declarations for the 2008 Ozone NAAQS
CTG document No. | Title
EPA-450/2-77-008 | Surface Coating of Cans.
EPA-450/2-77-008 | Surface Coating of Coils.
EPA-450/2-77-008 | Surface Coating of Paper.
EPA-450/2-77-008 | Surface Coating of Fabric.
EPA-450/2-77-008 | Surface Coating of Automobiles and Light-Duty Trucks.
EPA-450/2-77-022 | Solvent Metal Cleaning.
EPA-450/2-77-025 | Refinery Vacuum Producing Systems, Wastewater Separators, and Process Unit Turnarounds.
EPA-450/2-77-026 | Tank Truck Gasoline Loading Terminals.
EPA-450/2-77-032 | Surface Coating of Metal Furniture.
EPA-450/2-77-033 | Surface Coating of Insulation of Magnet Wire.
EPA-450/2-77-034 | Surface Coating of Large Appliances.
EPA-450/2-77-035 | Bulk Gasoline Plants.
EPA-450/2-77-036 | Storage of Petroleum Liquids in Fixed-Roof Tanks.
EPA-450/2-78-029 | Manufacture of Synthesized Pharmaceutical Products.
EPA-450/2-78-030 | Manufacture of Pneumatic Rubber Tires.
EPA-450/2-78-032 | Factory Surface Coating of Flat Wood Paneling.
EPA-450/2-78-033 | Graphic Arts-Rotogravure and Flexography.
EPA-450/2-78-036 | Leaks from Petroleum Refinery Equipment.
EPA-450/2-78-047 | Petroleum Liquid Storage in External Floating Roof Tanks.
EPA-450/3-82-009 | Large Petroleum Dry Cleaners.
EPA-450/3-83-006 | Leaks from Synthetic Organic Chemical Polymer and Resin Manufacturing Equipment.
EPA-450/3-83-007 | Leaks from Natural Gas/Gasoline Processing Plants.
EPA-450/3-83-008 | Manufacture of High-Density Polyethylene, Polypropylene, and Polystyrene Resins.
EPA-450/3-84-015 | Air Oxidation Processes in Synthetic Organic Chemical Manufacturing Industry.
EPA-450/4-91-031 | Reactor Processes and Distillation Operations in Synthetic Organic Chemical Manufacturing Industry.
EPA-453/R-96-007 | Wood Furniture Manufacturing Operations.
EPA-453/R-94-032, 61 FR 44050; 8/27/96 | ACT Surface Coating at Shipbuilding and Ship Repair Facilities Shipbuilding and Ship Repair Operations (Surface Coating).
EPA-453/R-97-004, 59 FR 29216; 6/06/94 | Aerospace MACT and Aerospace (CTG & MACT).
EPA-453/R-06-001 | Industrial Cleaning Solvents.
EPA-453/R-06-002 | Offset Lithographic Printing and Letterpress Printing.
EPA-453/R-06-003 | Flexible Package Printing.
EPA-453/R-06-004 | Flat Wood Paneling Coatings.
EPA 453/R-07-003 | Paper, Film, and Foil Coatings.
EPA 453/R-07-004 | Large Appliance Coatings.
EPA 453/R-07-005 | Metal Furniture Coatings.
EPA 453/R-08-003 | Miscellaneous Metal Parts and Plastic Parts Coatings Tables 3-6.
EPA 453/R-08-004 | Fiberglass Boat Manufacturing Materials.
EPA 453/R-08-005 | Miscellaneous Industrial Adhesives.
EPA 453/R-08-006 | Automobile and Light-Duty Truck Assembly Coatings.
EPA 452/B16-001 | Oil and Natural Gas Industry.
— N/A — | Major non-CTG VOC sources.
— N/A — | Major non-CTG NOX sources.

* * * * *

[FR Doc. 2020-00179 Filed 1-14-20; 8:45 am]

BILLING CODE 6560-50-P